DEPARTMENT OF TRANSPORTATION

National Highway Traffic Safety Administration

[Docket No. NHTSA 2001-8925, Notice 1]

Mazda Motor Corporation, Receipt of Application for Decision of Inconsequential Noncompliance

Mazda Motor Corporation has determined that all Mazda MPV minivans produced beginning with the 1989 model year through 2001 models manufactured prior to October 6, 2000, and all 1979 through 1993 Mazda B-Series pickup trucks do not meet the labeling requirements of paragraph 5.3 of Federal Motor Vehicle Safety Standard (FMVSS) No. 120 “Tire Selection and Rims for Motor Vehicles Other than Passenger Cars.” This includes approximately 1,449,000 vehicles.

Pursuant to 49 U.S.C. 30118(d) and 30120(h), Mazda has petitioned for a determination that this condition is inconsequential to motor vehicle safety and has filed an appropriate report pursuant to 49 CFR Part 573, “Defect and Noncompliance Reports.”

This notice of receipt of an application is published under 49 U.S.C. 30118 and 30120 and does not represent any agency decision or other exercise of judgment concerning the merits of the application.

The noncompliance with paragraph 5.3 of FMVSS 120 relates to labeling. The vehicles are all equipped with both certification labels required by 49 CFR Part 567 and tire information labels as specified in paragraph 5.3(b) of FMVSS 120. However the tire information labels do not include the appropriate gross vehicle weight rate (GVWR) and the gross axle weight rating (GAWR) as required.

Mazda supports its application for inconsequential noncompliance by stating that in all cases, the Part 567 certification labels that include the GVWR and GAWR information are located on the B-pillar and the tire information is located on the door, both of which are visible when the door is open. The information is also included in the owner's manual for all the subject vehicles beginning with the 1988 model year. Mazda believes that this noncompliance presents no risk to motor vehicle safety and therefore seeks exemption from the notification and remedy requirements.

Interested persons are invited to submit written data, views and arguments on the application described above. Comments should refer to the docket number and be submitted to: U.S. Department of Transportation, Docket Management, Room PL-401, 400 Seventh Street, SW., Washington, DC 20590. It is requested that two copies be submitted.

All comments received before the close of business on the closing date indicated below will be considered. The application and supporting materials, and all comments received after the closing date, will also be filed and will be considered to the extent possible. When the application is granted or denied, the notice will be published in the Federal Register pursuant to the authority indicated below. Comment closing date: April 2, 2001.

(49 U.S.C. 301118, 301120; delegations of authority at 49 CFR 1.50 and 501.8)

Issued on: February 26, 2001.
Stephen R. Kratzke,
Associate Administrator for Safety Performance Standards.

[FR Doc. 01-5112 Filed 3-1-01; 8:45 am]

BILLING CODE 4910-59-P